FEDERAL COMMUNICATIONS COMMISSION

Notice of Public Information Collection(s) being reviewed by the Federal Communications Commission, Comments Requested

January 14, 2008.

SUMMARY: The Federal Communications Commission, as part of its continuing effort to reduce paperwork burden, invites the general public and other Federal agencies to take this opportunity to comment on the following information collection(s), as required by the Paperwork Reduction Act of 1995, 44 U.S.C. Sections 3501—3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 25, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Leslie F. Smith, Federal Communications Commission, Room 1-C216, 445 12th Street, SW., Washington, DC 20554.

FOR FURTHER INFORMATION CONTACT: For additional information about the information collection(s), contact Leslie F. Smith via e-mail at PRA@fcc.gov or call (202) 418-0217.

SUPPLEMENTARY INFORMATION:

OMB Control Number: 3060-0056.

Title: Part 68—Connection of Terminal Equipment to the Telephone Network.

Form Number: N/A.

Type of Review: Extension of a currently approved collection.

Respondents: Business or other for-profit.

Number of Respondents and Responses: 58,520 respondents; 70,450 responses.

Estimated Time per Response: 0.5-24 hours.

Obligation to Respond: Required to obtain or retain benefits.

Frequency of Response: On occasion reporting requirement; recordkeeping requirement; and third party disclosure requirement.

Total Annual Burden: 32,027 hours.

Total Annual Cost: $1,160,000.

Privacy Act Impact Assessment: No impacts.

Nature of Extent of Confidentiality: The Commission is not requesting that the respondents submit confidential information to the FCC. Respondents may, however, request confidential treatment for information they believe to be confidential under 47 CFR 0.459 of the Commission's rules.

Needs and Uses: The purpose of 47 CFR Part 68 is to protect the telephone network from certain types of harm and interference to other subscribers. To ensure that consumers, providers of telecommunications, the Administrative Council, telecommunications certification bodies (TCBs), and the Commission are able to trace products to the party responsible for placing terminal equipment on the market, it is essential to require manufacturers and suppliers to provide the information required by part 68. In addition, it is necessary that incumbent local exchange carriers (ILECs) provide the information in part 68 to warn their subscribers of impending disconnection of service when subscriber terminal equipment is causing telephone network harm.

OMB Control Number: 3060-0370.

Title: Part 32—Uniform System of Accounts for Telecommunications Companies.

Form Number: N/A.

Type of Review: Revision of a currently approved collection.

Respondents: Business or other for-profit, not-for-profit institutions, and state, local and tribal government.

Number of Respondents and Responses: 239 respondents; 239 responses.

Estimated Time per Response: 1.07-104 hours.

Obligation to Respond: Mandatory as required by 47 U.S.C. 220.

Frequency of Response: On-occasion reporting requirement; recordkeeping requirement.

Total Annual Burden: 1,516,702 hours.

Total Annual Cost: $0.00.

Privacy Act Impact Assessment: No impacts.

Nature of Extent of Confidentiality: The Commission is not requesting that the respondents submit confidential information to the FCC. Respondents may, however, request confidential treatment for information they believe to be confidential under 47 CFR 0.459 of the Commission's rules.

Needs and Uses: The Commission adopting the Joint Conference's recommendations to reinstate the following Part 32 Class A accounts: Account 5230, Directory revenue; Account 6621, Call completion services; Account 6622, Number services; Account 6623, Customer services; Account 6561, Depreciation expenses—telecommunications plant in service; Account 6562, Depreciation expenses—property held for future telecommunications use; Account 6563, Amortization expense—tangible; Account 6564, Amortization expense—intangible; Account 6565, Amortization expense—other. These accounting changes are mandatory only for Class A Incumbent Local Exchange Carriers (ILECs). The reinstatement of these accounts will impose a minor increase (7%) in burden on Class A ILECs only. Additionally, the Commission is establishing a requirement that Class A ILECs maintain subsidiary record categories for unbundled network element revenues, resale revenues, reciprocal compensation revenues, and other interconnection revenues in the accounts in which these revenues are currently recorded. The use of subsidiary record categories allows carriers to use whatever mechanisms they choose, including those currently in place, to identify the relevant amounts as long as the information can be made available to state and federal regulators upon request. The use of subsidiary record categories for interconnection revenue does not require massive changes to the ILECs' accounting system and is a far less burdensome alternative than the creation of new accounts and/or subaccounts.

OMB Control Number: 3060-XXXX.

Title: Service Quality Measurement Plan for Interstate Special Access and Monthly Usage Reporting Requirements.

Form Number: N/A.

Type of Review: New Collection.

Respondents: Business or other for-profit entities.

Number of Respondents and Responses: 3 respondents; 48 responses annually.

Estimated Time per Response: 25-75 hours.

Obligation to Respond: Required to obtain or retain benefits.

Frequency of Response: Monthly and quarterly reporting requirements; third party disclosure.

Total Annual Burden: 3,000 hours.

Total Annual Cost: $135,000.

Privacy Act Impact Assessment: No impacts.

Nature of Extent of Confidentiality: The respondents may request confidentiality protection for the special access performance information. The respondents are not required to file their customers' monthly usage information with the Federal Communications Commission (FCC).

Needs and Uses: The service quality measurement plan for interstate special access would require the respondents to report special access performance metrics on a quarterly basis. Because, pursuant to Section 272(f)(1) Sunset of the BOC Separate Affiliate and Related Requirements; 2000 Biennial Regulatory Review Separate Affiliate Requirements of Section 64.1903 of the Commission's Rules; Petition of AT&T Inc. for Forbearance Under 47 U.S.C. 160(c) with Regard to Certain Dominant Carrier Regulations for In-Region, Interexchange Services, WC Docket Nos. 02-112, 06-120, CC Docket No. 00-175, Report and Order and Memorandum Opinion and Order, 22 FCC Rcd 16440 (2007) (Section 272 Sunset Order), the respondents are no longer required to comply with the section 272 structural safeguards, the special access performance metrics reporting requirements will ensure that these carriers do not engage in non-price discrimination in the provision of special access services to unaffiliated entities and will provide the FCC and other interested parties with reasonable tools to monitor these carriers' performance in providing these special access services to themselves and their competitors. The monthly usage reporting requirement would require the respondents to provide each of their residential customers who subscribe to a call plan that establishes a single rate for unlimited wireline local exchange and long distance telecommunications service with the total number of long distance telecommunications service minutes used by that customer each month. This monthly usage reporting requirement will help ensure that, as a result of the relief granted in the Section 272 Sunset Order residential interstate long distance consumers receive adequate information regarding their monthly usage in order to make informed choices among alternative long distance calling plans.

OMB Control Number: 3060-0823.

Title: Pay Telephone Reclassification, Memorandum Opinion and Order, CC Docket No. 96-128.

Form Number: N/A.

Type of Review: Extension of a currently approved collection.

Respondents: Business or other for-profit.

Number of Respondents and Responses: 400 respondents; 400 responses.

Estimated Time per Response: 2-35 hours.

Obligation to Respond: Mandatory as required by 47 U.S.C. 276.

Frequency of Response: On occasion, monthly, and quarterly reporting requirements; recordkeeping requirement; and third party disclosure requirement.

Total Annual Burden: 44,700 hours.

Total Annual Cost: $480,000.

Privacy Act Impact Assessment: No impacts.

Nature of Extent of Confidentiality: The Commission is not requesting that the respondents submit confidential information to the FCC. Respondents may, however, request confidential treatment for information they believe to be confidential under 47 CFR 0.459 of the Commission's rules.

Needs and Uses: The Commission's Common Carrier Bureau adopted and released a Memorandum Opinion and Order, Implementation of the Pay Telephone Reclassification and Compensation Provisions of the Telecommunications Act of 1996 et al., CC Docket No. 96-128, DA 98-481, on March 9, 1998, which clarified the requirements established in the Payphones Orders for the provision of payphone-specific coding digits and for tariffs that local exchange carriers (LECs) must file pursuant to the Payphone Orders. The Commission also granted a waiver of Part 69 of the Commission's rules so that LECs can establish rate elements to recover the costs of implementing FLEX-ANI (a type of switch software) to provide payphone-specific coding digits for per-call compensation. The Commission is required to implement section 276 of the Act, which it has done in the Payphone Orders.

OMB Control Number: 3060-0298.

Title: Competitive Carrier Line Count Report.

Form Number: FCC Form 525.

Type of Review: Extension of a currently approved collection.

Respondents: Business or other for-profit.

Number of Respondents and Responses: 1,300 respondents; 4,753 responses.

Estimated Time per Response: 57 hours.

Obligation to Respond: Required to obtain or retain benefits.

Frequency of Response: On occasion and annual reporting requirements.

Total Annual Burden: 66,120 hours.

Total Annual Cost: $0.00.

Privacy Act Impact Assessment: No impacts.

Nature of Extent of Confidentiality: The respondents may request confidentiality protection for the special access performance information. The respondents are not required to file their customers' monthly usage information with the Federal Communications Commission (FCC).

Needs and Uses: 47 CFR Part 61 of the Commission's rules establishes procedures for filing tariffs which contain the charges, practices, and regulations of the common carriers, supporting economic data and other related documents. The supporting data must conform to other parts of the Rules such as Parts 36 and 69. Part 61 also prescribes the framework for the initial establishment of and subsequent revisions to tariffs. Tariffs that do not conform to Part 61 may be required to post their schedules or rates and regulations. The information collected through a carrier's tariff is used by the Commission to determine whether services offered are just and reasonable as the Act requires. The tariffs and any supporting documentation are examined in order to determine if the services are offered in a just and reasonable manner.

OMB Control Number: 3060-1046.

Title: Pay Telephone Reclassification and Compensation Provisions of the Telecommunications Act of 1996, CC Docket No. 96-128, Order on Reconsideration.

Form Number: N/A.

Type of Review: Extension of a currently approved collection.

Respondents: Business or other for-profit.

Number of Respondents and Responses: 1,023 respondents; 4,854 responses.

Estimated Time per Response: 100 hours.

Obligation to Respond: Mandatory, as required by 47 U.S.C. 276.

Frequency of Response: Quarterly and annual reporting requirements; recordkeeping requirement; and third party disclosure requirement.

Total Annual Burden: 485,400 hours.

Total Annual Cost: $0.00.

Privacy Act Impact Assessment: No impacts.

Nature and Extent of Confidentiality: The Commission is not requesting that the respondents submit Confidential information to the FCC. Respondents may, however, request confidential treatment for Information they believe to be confidential under 47 CFR 0.459 of the Commission's rules.

Needs and Uses: The Commission released an Order on Reconsideration, the Pay Telephone Reclassification and Compensation Provisions of the Telecommunications Act of 1996, CC Docket No. 96-128, FCC 04-251, on October 22, 2004, which increased the time carriers must retain certain data and adds burden in that regard. It also removed potentially burdensome paperwork requirements by encouraging carriers to comply with the reporting requirements through electronic means. We believe that the clarifications adopted in the Order on Reconsideration significantly decrease the paperwork burden on carriers. Specifically, the Commission: (1) Clarified that Completing Carriers must provide the Payphone Service Provider (PSP) with adequate notice of an alternative compensation arrangement (ACA) prior to its effective date with sufficient time for the PSP to object to an ACA, and also prior to the termination of an ACA; (2) clarified any paperwork burdens imposed on carriers and allowed Completing Carriers to provide notice of ACAs on a clearinghouse's Web site; (3) required Completing Carriers to report only completed calls in their quarterly reports; and (4) extended the time period from 18 to 27 months for Completing Carriers and Intermediate Carriers to retain certain payphone records.

OMB Control Number: 3060-0816.

Title: Local Telephone Competition and Broadband Reporting, Report and Order, WC Docket No. 04-141, FCC 04-266.

Form Number: FCC Form 477.

Type of Review: Extension of a currently approved collection.

Respondents: Business or other for-profit; not-for-profit institutions; and state, local or tribal government.

Number of Respondents and Responses: 1,400 respondents; 2,800 responses.

Estimated Time per Response: 46.0 hours.

Obligation to Respond: Mandatory, as required by the Commission's rules implementing section 706 of the Telecommunications Act of 1996, 47 U.S.C. 157nt, and the Communications Act of 1934, as amended, 47 U.S.C. 151-155, 160, 161, 201-205, 215, 218-220, 251-271, 303(r), 332, 403, 502, and 503.

Frequency of Response: Semi-annual reporting requirement.

Total Annual Burden: 128,800 hours.

Total Annual Cost: $0.00.

Privacy Act Impact Assessment: No impacts.

Nature of Extent of Confidentiality: Respondents may request confidential treatment for competitively sensitive information by using a drop-down box located on the first page of Form 477. If the Commission receives a request for release pursuant to the Freedom of Information Act, the respondent is notified and afforded an opportunity to show why the data should not be released under 47 CFR 0.459(b) of the Commission's rules. Additionally, the Commission only releases aggregated (non-company specific) information in its published reports.

Needs and Uses: The information is necessary to evaluate the status of local telephone competition and the status of broadband services deployment. The information assists the Commission in preparing the report mandated by section 706 of the Telecommunications Act of 1996, and it is used by the Commission to evaluate the efficacy of Commission rules and policies adopted to implement the Telecommunications Act of 1996.

Federal Communications Commission.
Marlene H. Dortch,
Secretary.

[FR Doc. E8-1325 Filed 1-24-08; 8:45 am]

BILLING CODE 6712-01-P